DEPARTMENT OF ENERGY

Western Area Power Administration

[DOE/EIS-0441]

Mohave County Wind Farm Project Record of Decision

AGENCY: Western Area Power Administration, DOE.

ACTION: Record of decision.

SUMMARY: NextEra Energy Resources, LLC (NextEra), through its entity Mohave County Wind Farm, LLC, proposes to develop its Mohave County Wind Farm Project (Project) and interconnect it to Western Area Power Administration's (WAPA) Mead-Peacock 345-kilovolt (kV) transmission line. The Project site is located in the White Hills of Mohave County, Arizona, on lands managed by the U.S. Department of Interior, Bureau of Land Management (BLM) and Bureau of Reclamation (Reclamation). Based in part on the analysis in the final environmental impact statement (Final EIS), WAPA has determined to allow NextEra's request for interconnection to WAPA's transmission system on the Mead-Peacock 345-kV transmission line; to construct, own, operate, and maintain a new Project switchyard and associated communications equipment; and to replace or upgrade certain equipment in the Mead Substation to accommodate the Project.

FOR FURTHER INFORMATION CONTACT: For further information, please contact Mark Wieringa, NEPA Document Manager, Headquarters Office, Western Area Power Administration, A9402, P.O. Box 281213, Lakewood, CO 80228, telephone (720) 962-7448, or email wieringa@wapa.gov.

SUPPLEMENTARY INFORMATION: WAPA is a Federal agency within the Department of Energy (DOE) that markets and transmits wholesale electrical power through an integrated 17,000-circuit mile, high-voltage transmission system across 15 western states. WAPA's Open Access Transmission Service Tariff provides open access to its electric transmission system. In reviewing interconnection requests, WAPA must ensure that existing reliability and service are not degraded. WAPA's Large Generator Interconnection Procedures provides for transmission and system studies to ensure that system reliability and service to existing customers are not adversely affected by new interconnections.

In 2009, BP Wind Energy North America Inc. (BP Wind Energy) applied to the BLM and Reclamation for, respectively, right-of-way (ROW) and right-of-use (ROU) permits on public and Federal land to construct, operate, maintain, and eventually decommission a wind-powered electrical generation facility in Mohave County, Arizona. BP Wind Energy concurrently applied to interconnect its proposed Project to WAPA's Liberty-Mead 345-kV transmission line or the Mead-Phoenix 500-kV transmission line, of which WAPA is a participating partner, and both traverse the Project area in adjacent ROWs. The proposed Project site is located in the White Hills of Mohave County about 40 miles northwest of Kingman, Arizona, and immediately south of the Lake Mead National Recreation Area (NRA) boundary (map 1-1 of the Final EIS). The proposed Project is described in the Final EIS and is outlined in detail in the associated BLM Plan of Development (POD). These documents and others related to the proposed Project can be found on the BLM's website for the Project at https://eplanning.blm.gov/epl-front-office/eplanning/legacyProjectSite.do?methodName=renderLegacyProjectSite&projectId=77804.

In compliance with the National Environmental Policy Act (NEPA), as amended, and the Federal Land Policy and Management Act of 1976, as amended, the BLM as lead agency prepared and released a Draft EIS on April 27, 2012 (77 FR 25165), and subsequently held public meetings on the document in Kingman, Dolan Springs, Peach Springs, and White Hills, Arizona, during the public comment period. WAPA was a cooperating agency in the NEPA process. Following the release of the Draft EIS, and with assistance from WAPA and other cooperating agencies, the BLM prepared a Final EIS that was released on May 17, 2013 (78 FR 29131). In addition to WAPA, other cooperating agencies involved in the Project included the U.S. Department of Interior, Bureau of Reclamation, Lower Colorado Region, and the National Park Service, Lake Mead National Recreation Area; the Hualapai Tribe, Department of Cultural Resources; the Arizona Game and Fish Department; and Mohave County, Arizona. After consideration of comments received on the Final EIS, the BLM and Reclamation approved the ROW and ROU grant on June 25, 2013, and signed a record of decision (ROD) on June 26, 2013. A Notice of Availability for the BLM ROD was published in the Federal Register on September 27, 2013 (78 FR 57173).

WAPA's Proposed Federal Action

At the time the Project was proposed, WAPA's proposed Federal action was to interconnect the Project to WAPA's existing Liberty-Mead 345-kV transmission line or the Mead-Phoenix 500-kV transmission line, of which WAPA is a participating partner, and to construct, own, operate, and maintain a new switchyard and communications facilities on BLM-administered public land adjacent to the transmission line. As a result of the original interconnection request, WAPA applied to the BLM for a ROW grant on the Project site to develop a switchyard on one of two approximately 10-acre locations that would interconnect the proposed wind generation Project to the electrical power grid; that ROW grant was approved as part of the grant to BP Wind Energy. WAPA also considered what upgrades to equipment in the Mead Substation would be required if the decision was to interconnect with the Liberty-Mead transmission line.

While the BLM concluded its NEPA process with their ROD and ROW grant in 2013, BP Wind Energy needed to secure contracts for the power resources to be generated by its proposed Project before it could determine the transmission path needed and to which of the two alternative transmission lines it wanted to interconnect. Selection of the transmission line would also determine which of the alternative substation/switchyard locations would be used. Because this decision was not made, WAPA could not execute a ROD at that time.

Subsequently the proposed Project was sold, and is currently being developed by NextEra. NextEra's entity developing the Project is still named Mohave County Wind Farm, LLC, but the Project itself has been renamed the White Hills Wind Project. In the interest of limiting confusion and retaining consistency with the prior NEPA documents, WAPA is using the original Mohave County Wind Farm Project name for purposes of this ROD.

NextEra has selected WAPA's Mead-Peacock 345-kV transmission line for interconnection, allowing WAPA to move forward with this ROD. Peacock Substation is located about halfway along the Mead-Liberty transmission line. The proposed Project remains within the same footprint, retains the same general turbine layout, and would generate the same amount of power, 425 megawatts (MW), as previously approved. Newer, more advanced turbine models are proposed, which would reduce the number of turbines compared to the original proposal. Preliminary engineering resulted in moving the Project substation and WAPA's switchyard east-southeast along the existing Mead-Peacock 345-kV transmission line about 0.9 miles to section 16, Township 28 North, Range 20 West. The new location will be surveyed for cultural and biological resources, and any change in impacts associated with this relocation, about 10 acres out of the 38,110 acres included in the Project site, is anticipated to be negligible.

NextEra has been coordinating with the BLM on their Project, and the BLM is aware of the Project changes. WAPA also consulted with the Arizona State Office of the BLM as a cooperating agency. The BLM has determined that there have been no substantial changes in the proposed action that are relevant to environmental concerns, and there are no significant new circumstances or information relevant to environmental concerns and bearing on the proposed action or its impacts. Therefore, the BLM has determined that the Final EIS, BLM ROD, and BLM POD originally prepared for the BP Wind Energy Project remain valid and are fully adequate. Given the BLM's position, WAPA has determined that a Supplemental EIS is not required for its Federal action, which is a very small part of the overall Project.

The Proposed Project

The Project as originally proposed by BP Wind Energy and approved by BLM was to construct, operate, maintain, and eventually decommission a wind energy generation facility on BLM- and Reclamation-managed lands. The Project would generate and deliver electrical power to the regional electrical transmission grid by interconnecting with an existing transmission line crossing through the southern portion of the Project site. The Project's nameplate generating capacity would be 425 MW if the Project interconnected to the 345-kV Liberty-Mead transmission line and 500 MW if the Project interconnected to the 500-kV Mead-Phoenix transmission line.

Project features include, but are not limited to, turbines aligned within corridors, access roads, an operations and maintenance building, a water well drilled to support the operations and maintenance building, two temporary laydown/staging areas (with temporary concrete batch plant operations), temporary and permanent meteorological towers, two substations, the WAPA switchyard, and collector lines that carry the power from the turbines to the substations. While typically buried underground, collector lines could be on aboveground structures to span terrain and environmentally and culturally sensitive areas. The Project would require:

• Up to 10 acres of BLM-administered public lands within the Project site to be used for construction of the switchyard that will be operated by WAPA;

• An approximately 3-mile long access road between the Project site and U.S. Route 93 (US 93);

• Temporary use of the existing Detrital Wash Materials Pit as a materials source for the base material of roads and for concrete needed for foundations. The existing water wells in the immediate vicinity of this materials source would provide temporary construction-phase water for batch plant operations and dust suppression;

• A temporary water pipeline that would extend within the primary access road ROW from the materials source to the main laydown/staging area where batch plant operations would occur;

• A distribution line that would tap into an existing power line south of the Project site, parallel US 93 north to the access road, follow the access road to the main (southernmost) laydown/staging area where batch plant operations will occur, and extend to the operations and maintenance building; and

• Replacement of an existing 345/230-kV transformer and associated breakers and switches within WAPA's Mead Substation with two new 600 megavolt-ampere (MVA) 345/230-kV transformers and new breakers and switches if the 345-kV interconnection option is selected. These replacements, which would be required to accommodate the increased electrical loading related to generation from the proposed Project, would be accomplished by WAPA at BP Wind Energy's expense. The existing transformer is at the terminus of the Liberty-Mead 345-kV line in Mead Substation; the substation is located near Boulder City, Nevada.

BP Wind Energy filed applications to interconnect the Project described above with either the 345-kV or 500-kV transmission line in 2009. NextEra's current Project would also be as described above, except that the substation and adjacent WAPA switchyard location have been relocated, fewer turbines would be constructed, and the Project would interconnect to the Mead-Peacock portion of the Mead-Liberty 345-kV transmission line. Some of the equipment in Mead Substation slated for replacement as part of the Project has already been upgraded during the 2013-2018 time frame, but one transformer and associated equipment would still have to be replaced as part of the Project, as well as some communications work.

Description of Project Alternatives

Five alternatives were considered in the Final EIS. Alternative A was the proposed action identified by BP Wind Energy. Alternative B reduced the proposed Project site footprint and would have fewer turbines than Alternative A to reduce visual and noise impacts primarily on Lake Mead NRA and secondly on private property. Alternative C also reduced the proposed Project site footprint and had fewer turbines than Alternative A to reduce visual and noise impacts. Alternative D was the no-action alternative under which the proposed Project would not be built. Alternative E (Preferred Alternative) was a combination of Alternatives A and B and responds to concerns for visual and noise impacts on Lake Mead NRA and existing residents. Alternative E also addressed information about golden eagle breeding areas, which supported the need to establish a no-build area and curtailment zone to reduce potential impacts on golden eagles within the Squaw Peak breeding area in the northwest portion of the Project site. All action alternatives included the Project features as described above under “The Proposed Project.” NextEra plans to implement Alternative E.

WAPA, the BLM, and Reclamation determined that the No Action Alternative and Alternative E, the Selected Alternative, were the environmentally preferred alternatives because they will cause the least damage to the biological and physical environment. Although the No Action Alternative would have the least effect on the environment, the No Action Alternative would not allow development of the proposed Project and would not meet the BLM's and Reclamation's purpose and need for Federal action, including responding to BP Wind Energy's (now NextEra's) application for ROW and ROU permits and furthering national renewable energy policies and directives, nor would it meet WAPA's purpose and need for responding to the interconnection request and providing open access to transmission in accordance with Federal law. Of the action alternatives, the Selected Alternative represents the environmentally preferred alternative because it meets the various agencies' purpose and need for Federal action, assists in meeting Federal and state renewable energy goals and reduces greenhouse gas emissions, includes measures to protect golden eagles and other biological resources, effectively minimizes potential visual and noise effects on the Lake Mead NRA by eliminating selected turbine corridors in the northwest and northeast portions of the Project area, and requires a minimum 0.25-mile setback from private land to reduce potential visual and noise effects. The phased approach to development and curtailment zone will emphasize initial development in less environmentally sensitive areas and minimize impacts to nesting golden eagles.

Description of WAPA Switchyard Location Options

The construction portion of WAPA's proposed Federal action is limited to about 10 acres within the overall approximately 38,110-acre Project site. The Project alternatives ultimately developed by the BLM and Reclamation were primarily variations of turbine string arrangements within the same general location. Existing transmission lines that BP Wind Energy initially considered for interconnection included the Liberty-Mead 345-kV transmission line, the Mead-Phoenix 500-kV transmission line, and the Moenkopi-El Dorado 500-kV transmission line, with the latter line being dropped for consideration during the NEPA process. The Liberty-Mead and Mead-Phoenix lines parallel each other on adjacent ROWs and pass through the Project site. WAPA and the other agencies considered suitable switchyard and adjacent Project substation locations along these lines, with potential 500-kV interconnection locations located on the north of the lines and 345-kV locations on the south, adjacent to their respective voltage lines. Once determined, these locations were the same for all proposed Project action alternatives.

Two switchyard locations east of the Project site were considered for an interconnection to the Mead-Phoenix 500-kV transmission line during the preparation of the electrical system studies. These two interconnection points were considered when a solar-powered generation facility was proposed east of the Project. A shared interconnection point located between the two proposed projects was proposed, but the solar project was cancelled, eliminating the need for a shared interconnection. Therefore, these two off-site interconnection points and the additional transmission required to reach them were dropped from further consideration.

Three locations were identified for the 345-kV switchyard within the Project site, each paired with a nearby Project substation location (one of two substations planned for the proposed Project). The locations each had at least 10 acres that could be developed and were relatively level. Besides proximity to the Liberty-Mead transmission line, locations were also selected based on the proposed layout of Project facilities, lack of identified cultural resources, lack of listed plant species, minimal presence of sensitive plant species, presence of existing site access, and a lack of near-surface rock or rock outcrops that would complicate grading and construction.

These criteria, plus consideration of the proposed Project substation location, led to the elimination of two of the locations, and incorporation of the best-suited switchyard location into the Project action alternatives. The same process was used to identify and select the 500-kV switchyard location on the north side of the two existing transmission lines, which also became part of the larger Project alternatives. These locations were sited in sections 8 and 9 of Township 28 North, Range 20 West for the 345-kV and 500-kV interconnection points, respectively. Of the locations identified, these switchyard locations were determined to be the locations having the least potential environmental impact. Subsequently, initial design work for the NextEra Project resulted in the identification of a new location for the Project substation and adjacent WAPA switchyard in section 16 of Township 28 North, Range 20 West, on the south side of the parallel transmission lines. Visits to the original location resulted in the identification of potential jurisdictional waters due to the washes and erosional features present. The new location avoids jurisdictional waters and related washes and has favorable slopes and elevation. The new location would require less grading and avoids the need to re-direct active washes, so overall environmental impacts are expected to be reduced when compared to the original location.

Mitigation Measures

Since the WAPA switchyard is an integral component of the Project, it will be subject to the applicable mitigation measures identified in the BLM's ROD under 4.0 Mitigation Measures, chapter 4 of the Final EIS, the Project POD, and the Project and WAPA's ROW grant. The BLM also has a series of specific plans addressing particular aspects of the Project, including an Integrated Reclamation Plan; Health, Safety, Security, and Environment Plan; Spill Prevention, Control, and Countermeasure Plan; Transportation and Traffic Plan; Dust and Emissions Control Plan; Blasting Plan (if required); Mining Plan of Operations; Flagging Plan; Decommissioning Plan; Eagle Conservation Plan/Bird Conservation Strategy; Bat Conservation Strategy; Stormwater Pollution Prevention Plan; and Environmental Construction Compliance and Monitoring Plan. Specific measures for the switchyard in the ROW grant from the BLM, if any, will also be implemented. In addition, best management practices and construction requirements included in WAPA's Construction Standard 13 will be in effect for the switchyard, and enforced through a mandatory clause in the switchyard construction contract. As the switchyard location will be graded flat and covered with aggregate, environmental concerns are mostly related to dust abatement, stormwater control, and erosion prevention. WAPA's design for and construction of the switchyard will anticipate these potential impacts and avoid or minimize them so additional mitigation is not required. The various plans, requirements, and mitigations discussed above incorporate all practicable means to avoid or minimize environmental harm from the proposed Project.

Comments on the Final EIS

The BLM received comments on the Final EIS from the U.S. Environmental Protection Agency and the National Park Service, among others. None of these comments raised substantive issues requiring a response, but were considered in the BLM's and Reclamation's decision making. Additionally, Defenders of Wildlife provided recommendations to the U.S. Fish and Wildlife Service regarding the Eagle Conservation Plan. None of the comments received on the Final EIS were specific to WAPA's switchyard. WAPA determined that the comments did not present any significant new circumstances or information relevant to environmental concerns and bearing on the Project or its impacts, and a Supplemental EIS was not required.

Decision

WAPA's decision is to allow NextEra's request for interconnection to WAPA's Mead-Peacock 345-kV transmission line; to construct, own and operate a new switchyard; and to replace or upgrade certain equipment within the existing Mead Substation at NextEra's expense. WAPA's decision to grant this interconnection request satisfies the agency's statutory mission and NextEra's objectives and is consistent with the BLM's and Reclamation's decisions while minimizing harm to the environment. Full implementation of this decision is contingent upon NextEra meeting all BLM and Reclamation requirements and obtaining all other applicable permits and approvals as well as executing an interconnection agreement in accordance with WAPA's Open Access Transmission Service Tariff.

This decision is based on the information contained in the Mohave County Wind Farm Project Draft and Final EIS, BLM's ROD, BLM's POD, recent coordination with the BLM's Arizona State Office, and WAPA's updated interconnection facilities study. This ROD was prepared pursuant to the requirements of the Council on Environmental Quality Regulations for Implementing NEPA (40 CFR parts 1500-1508) and DOE's Procedures for Implementing NEPA (10 CFR part 1021).

Dated: April 29, 2019.
Mark A. Gabriel,
Administrator.

[FR Doc. 2019-09677 Filed 5-9-19; 8:45 am]

BILLING CODE 6450-01-P